DEPARTMENT OF LABOR

Employee Benefits Security Administration

Proposed Information Collection; Request for Public Comment Health Disclosure and Claims Issues Project Survey

ACTION: Notice

SUMMARY: The Department of Labor (the Department), in accordance with the Paperwork Reduction Act of 1995 (PRA) (44 U.S.C. 3506(c)(2)(A)), provides the general public and Federal agencies with an opportunity to comment on proposed and continuing collections of information. This program helps the Department assess the impact of its information collection requirements and minimize the reporting burden on the public and helps the public understand the Department's information collection requirements and provide the requested data in the desired format. Currently, the Employee Benefits Security Administration is soliciting comments on a proposed new information collection entitled the Health Disclosure and Claims Issues Project Survey. A copy of the information collection request (ICR) can be obtained without charge by contacting the office listed below in the Addresses section of this notice.

DATES: Written comments must be submitted on or before February 6, 2007.

ADDRESSES: Direct all written comments to Susan G. Lahne, Office of Policy and Research, Employee Benefits Security Administration, U.S. Department of Labor, 200 Constitution Avenue, NW., Room N-5716, Washington, DC 20210. Telephone: (202) 693-8410; Fax: (202) 219-4745. These are not toll-free numbers. Comments may also be submitted electronically to the following Internet e-mail address: ebsa.opr@dol.gov.

SUPPLEMENTARY INFORMATION:

I. Background

In 1999, the Department conducted a pilot project under which approximately 200 group health plans were investigated for compliance with Part 7 of the Employee Retirement Income Security Act of 1974 (ERISA). In 2001, the Department initiated the Health Disclosure and Claims Issues: Fiscal Year 2001 Compliance Project (HDCI), which sought to increase compliance through investigations and improve the Department's ability to provide effective compliance assistance by assessing more comprehensively the extent and nature of compliance with Part 7 of ERISA among group health plans. As a result of that project, the Department broadened its compliance assistance efforts through a combination of publications, outreach, self-audit materials, and other compliance tools. As a follow-up to the Fiscal Year 2001 Compliance Project, the Department proposes to conduct a second project, HDCI 2, which is intended to measure changes in compliance with Part 7 of ERISA and to improve the effectiveness of future compliance assistance efforts. As part of HDCI 2, the Department proposes to conduct a narrow scope telephone survey for the sole purpose of identifying an appropriate sample of ERISA-covered single-employer group health plans in two categories: (1) Plans sponsored by firms with 3-99 employees, and (2) plans sponsored by firms with 100 or more employees. The survey is necessary because the Department has no available information from which to identify an appropriate sample of ERISA-covered single-employer group health plans. Group health plans that are identified through the telephone survey will be subject to investigation for compliance with the requirements of the health coverage provisions of Part 7 of ERISA. The investigations will be conducted under the investigative authority of the Department and are not part of the Health Disclosure and Claims Issues Project Survey. The Department has determined that conducting a telephone survey is the simplest, least burdensome method of obtaining the information necessary to identify ERISA-covered single-employer plans for this purpose.

The telephone survey will be limited in scope and designed to elicit only enough information to determine whether the firm that has been contacted sponsors or is part of a controlled group of firms that sponsors a group health plan subject to the provisions of Part 7. Respondents will be asked by telephone if they provide health benefits to their employees and, if so, the number of employees they have (to determine whether the plan is subject to Part 7 of ERISA or if a small plan exemption applies), and questions to determine whether the firm is a subsidiary that is part of a controlled group of employers and, therefore, whether the plan is sponsored by a parent that will need to be contacted. A respondent's participation in the call will be voluntary. The Department estimates that it will need to contact up to 5,000 firms in order to derive an adequate sample of ERISA-covered single-employer group health plans in each of the two categories described above. The goals of HDCI 2 are to identify and correct violations of Part 7 of ERISA, calculate compliance rates, provide compliance assistance regarding these provisions, and shape the Department's future compliance assistance and investigative resources strategies more efficiently and effectively.

II. Current Actions

This notice requests public comment pertaining to Office of Management and Budget (OMB) approval of the information collection contained in the telephone survey described above, which is necessary for purposes of the Health Disclosure and Claims Issues Project Survey. The Department intends, following the receipt of comments pursuant to this notice, to submit an ICR to OMB requesting its approval of this information collection. An agency may not conduct or sponsor, and a person is not required to respond to, an information collection unless it displays a valid OMB control number. A summary of the ICR and the current burden estimates follows:

Type of Review: New collection.

Agency: Employee Benefits Security Administration.

Title: Health Disclosure and Claims Issues Project Survey.

OMB Number: 1210-NEW.

Affected Public: Business or other for-profit; not-for-profit organizations.

Total Respondents: 5000.

Total Responses: 5000.

Frequency: Once.

Average Time per Response: 5 minutes.

Estimated Total Annual Hour Burden: 417 hours.

Estimated Total Annual Cost Burden: $0.

III. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who respond, including through the use of appropriate automated, electronic, mechanical, or other technological collection techniques or other forms of information technology, e.g., by permitting electronic submission of responses.

Comments submitted in response to this notice will be summarized and/or included in the ICR submitted for OMB approval. They will also become a matter of public record.

Joseph A. Piacentini,
Director, Office of Policy and Research, Employee Benefits Security Administration.

[FR Doc. E6-20912 Filed 12-7-06; 8:45 am]

BILLING CODE 4510-29-P